DEPARTMENT OF COMMERCE

National Oceanic and Atmospheric Administration

[Docket No. 000616180-1115-03]

RIN 0648-ZA91

NOAA Climate and Global Change Program, Program Announcement

AGENCY: Office of Global Programs, Office of Oceanic and Atmospheric Research, National Oceanic and Atmospheric Administration, Commerce.

ACTION: Notice.

SUMMARY: The Climate and Global Change Program represents a National Oceanic and Atmospheric Administration (NOAA) contribution to evolving national and international programs designed to improve our ability to observe, understand, predict, and respond to changes in the global environment. This program builds on NOAA's mission requirements and long-standing capabilities in global change research and prediction. The NOAA Program is a key contributing element of the U.S. Global Change Research Program (USGCRP), which is coordinated by the interagency Committee on Environmental and Natural Resources. NOAA's program is designed to complement other agencies' contributions to that national effort.

All proposals must be submitted in accordance with the requirements below. Failure to heed these guidelines will result in proposals being returned without review.

DATES: Unless otherwise noted, strict deadlines for submission to the FY 2002 process are: Letters of intent must be received at the Office of Global Programs (OGP) no later than July 2, 2001. Applicants who have not received a response to their letter of intent within four weeks should contact the Program Manager. Full proposals must be received at OGP no later than August 27, 2001. The time from receipt of proposals to grant award varies by program area. We anticipate that review of full proposals will occur during October and November 2001, and funding should begin during spring of 2002 for most approved projects. Applicants should be notified of their status within six months. April 1, 2002, should be used as the proposed start date on proposals, unless otherwise directed by the appropriate Program Manager.

ADDRESSES: Letters of Intent and Proposals should be submitted to: Office of Global Programs; National Oceanic and Atmospheric Administration; 1100 Wayne Avenue, Suite 1210; Silver Spring, MD 20910-5603

FOR FURTHER INFORMATION CONTACT: Irma duPree at the above address, or at (301) 427-2089 ext. 107, fax: (301) 427-2222, Internet: irma.duPree@noaa.gov.

SUPPLEMENTARY INFORMATION:

1. Funding Availability

NOAA believes that the Climate and Global Change Program will benefit significantly from a strong partnership with outside investigators. Current Program plans assume that over 50% of the total resources provided through this announcement will support extramural efforts, particularly those involving the broad academic community. However, please be advised that actual funding levels will depend upon the final FY 2002 budget appropriations. This Program Announcement is for projects to be conducted by investigators both inside and outside of NOAA, primarily over a one, two or three year period. The NOAA Climate and Global Change Program has been approved for multi-year funding up to a three year duration. The funding instrument for extramural awards will be a grant unless it is anticipated that NOAA will be substantially involved in the implementation of the project, in which case the funding instrument should be a cooperative agreement. Examples of substantial involvement may include but are not limited to proposals for collaboration between NOAA or NOAA scientists and a recipient scientist or technician and/or contemplation by NOAA of detailing Federal personnel to work on proposed projects. NOAA will make decisions regarding the use of a cooperative agreement on a case-by-case basis. Funding for contractual arrangements for services and products for delivery to NOAA is not available under this announcement. Matching share is not required by this program.

2. Program Authority

49 U.S.C. 44720(b); 33 U.S.C. 883d; 15 U.S.C. 2904; 15 U.S.C. 2931 et seq.; (CFDA No. 11.431)—CLIMATE AND ATMOSPHERIC RESEARCH.

3. Program Objectives

The long-term objective of the Climate and Global Change Program is to provide reliable predictions of climate variability and change with associated regional implications on time scales ranging from seasons to a century or more. NOAA believes that climate variability across these time scales can be modeled with an acceptable probability of success and are the most relevant for fundamental social concerns. Predicting the behavior of the coupled ocean-atmosphere-land surface system will be NOAA's primary contribution to a successful national effort to deal with observed or anticipated changes in the global environment. NOAA has a range of unique facilities and capabilities that can be applied to Climate and Global Change investigations. Proposals that seek to exploit these resources in collaborative efforts between NOAA and extramural investigators are encouraged.

4. Program Priorities

In FY 2002, NOAA will give priority attention to individual proposals in the Main Program Elements listed below. The names, affiliations and phone numbers of relevant Climate and Global Change Program Managers are provided. Funding for some programs may be limited to ongoing projects or may be used to fund projects proposed in FY 2001 that were unable to be funded due to budgetary circumstances. Prospective investigators are urged to check the Climate & Global Change Program web page (http://www.ogp.noaa.gov/) for general program information, and more specifically for current funding status and priorities prior to submitting letters or proposals. Prospective applicants may also communicate with Program Managers for information on priorities within program elements and prospects for funding.

(A) Aerosols

This program element focuses on field measurements and modeling of aerosol properties and distributions, with an emphasis on improving the predictive understanding of the role of aerosols in climate forcing. Due to budgetary limitations, funding may not be available for new grants in FY 2002; prospective investigators are urged to check the Climate and Global Change Program web page for current funding status and priorities prior to submitting letters or proposals. For further information contact: Joel M. Levy, NOAA/Office of Global Programs, 301-427-2089 ext. 111, Internet: joel.levy@noaa.gov.

(B) Atmospheric Chemistry

The Atmospheric Chemistry Project focuses on global monitoring, process-oriented laboratory and field studies, and theoretical modeling to improve the predictive understanding of the atmospheric trace species that influence the earth's chemical and radiative balance and the variation of the concentration of these trace species regionally and seasonally. For an information sheet containing further details and current priorities, please contact: Joel M. Levy, NOAA/Office of Global Programs, 301-427-2089 ext. 111, Internet: joel.levy@noaa.gov; or Fred C. Fehsenfeld, NOAA/Aeronomy Laboratory, Boulder, CO, 303-497-5819, Internet: fcf@al.noaa.gov.

(C) Climate Observation

The goal of this element is to build and sustain the global climate observing system that is needed to satisfy the long-term requirements of the operational forecast centers, international research programs, and major scientific assessments. The element supports in situ ocean and atmospheric components that contribute to global networks for understanding the Earth's climate system, the global water cycle, and the global carbon cycle, and looks for efficiencies to be gained by utilizing common platforms/sites/data infrastructure for several objectives. This program element will not accept applications for new projects in FY 2002. For more information contact: Michael Johnson, NOAA Office of Global Programs, 301-427-2089 ext. 169, Internet: johnson@ogp.noaa.gov.

(D) Climate and Societal Interactions (CSI)

Research on Vulnerability, Opportunities, and Response Options. Variability, change, and surprise results from a wide variety of climatological, social, economic and ecological circumstances and interactions. The purpose of this program is to increase understanding of the impacts of climate variability and change as conditioned by ongoing processes of decision-making and socio-economic transformation. The suite of efforts is intended to further research-based integration between studies of the whole of the climate system, including human components, such as health, and evolving informational and educational needs of decision-makers in climate sensitive sectors around the world. The goal is to provide the basis for more effective application of climate information, including climate forecasts, for purposes of adaptation. The intent of this program is to encourage overlapping research approaches to integrate knowledge for problem solving. The CSI is a chapeau for a suite of activities; prospective applicants must apply to one of the following program elements:

Human Dimensions of Global Change Research (HDGCR): The HDGCR program is aimed at understanding and analyzing the decision process as it relates to information about a dynamic climate system. This year, the program is specifically interested in building on lessons learned from cases of climate forecast use to reveal how information can be best communicated and disseminated to groups otherwise unlikely to benefit from climate information. Research would consider how forecast use is influenced by perceptions and human judgment, as well as public policy, and the most effective means of designing forecast information and its delivery to improve its usability. For more information and an information sheet on program objectives, contact: Caitlin Simpson, NOAA/Office of Global Programs, 301-427-2089 ext. 152, simpson@ogp.noaa.gov; or Claudia Nierenberg, NOAA/Office of Global Programs, 301-427-2089 ext. 151, nierenberg@ogp.noaa.gov.

Health and Climate Variability: A joint interagency announcement is anticipated on Climate and Health. (For more information on this future announcement contact Juli Trtanj, NOAA/Office of Global Programs, 301-427-2089 ext. 134, Internet: trtanj@ogp.noaa.gov.)

Regional Integrated Sciences and Assessments: This Program Element was formerly titled Regional Assessments. NOAA's present program of Regional Integrated Sciences and Assessments possesses three distinct qualities:

(1) Interdisciplinary, integration and synthesis;

(2) Bridging the gap between climatic, environmental and societal interactions on different temporal and spatial scales; and (3) Decision support and services. It requires innovative partnerships among a spectrum of interests (Federal, State, local and private) to enable regional organizational capacity to develop accurate (i.e., identifying risks, uncertainties, and/or indeterminacies), balanced syntheses and services on an ongoing basis. As such, the program relies heavily on consolidating the results and data from ongoing NOAA-OGP disciplinary program elements, already funded in a region, into an integrated framework. This program will not accept applications to initiate new activities, but will accept renewal applications for ongoing efforts or as part of ongoing negotiations. For more information and a detailed information sheet, contact: Roger Pulwarty, NOAA/Office of Global Programs, 301-427-2089 ext. 103, Internet: pulwarty@ogp.noaa.gov.

(E) Climate Change Data and Detection

The scientific goals of this element include efforts to: (1) Provide data and information management support activities needed to assure the availability of critical data sets from a variety of national and international programs of primary interest to NOAA's Climate and Global Change Program, e.g., the CLIVAR (Climate Variability and Predictability) Program, GEWEX (Global Energy & Water Cycle Experiment), GCOS (Global Climate Observing System), National and International Assessments, the WCRP (World Climate Research Program) CLIVAR/PAGES (Past Global Changes) Research Initiative etc.; (2) provide data and information management support related to crosscutting science efforts necessary to assess seasonal, interannual, decadal, and longer climate variations and changes; (3) document and quantitative character of observed climate variations and changes; (4) attribute changes in the observed climate record to specific climate forcings; and (5) establish linkages between the paleoclimatological record and the modern instrumental record, with a focus on interannual variability, extremes, and spatial completeness for the Northern and Southern Hemispheres.

During FY 2002, the Climate Change Data and Detection program element expects to include the following three major interagency activities:

—Enhanced Data Sets: NOAA and the National Aeronautics and Space Administration (NASA) will co-sponsor a project that supports research in the areas of data fusion and enhancement of climate data sets through the use of space and/or ground based observations. Preference will be given to those proposals that use more than one observing system to develop a blended data set.

—Climate Change Detection and Attribution: NOAA and the Department of Energy (DOE) will co-sponsor a project that addresses all aspects of Climate Change Detection and Attribution.

—Paleoclimatology: NOAA and the National Science Foundation (NSF) will co-sponsor a Paleoclimatology project that will entertain proposals that support the joint WCRP CLIVAR/IGBP PAGES Research Initiative. This initiative is jointly supported by NOAA and the NSF through the Earth System History (ESH) Program at NSF.

Prospective investigators are urged to check the Climate and Global Change web page for current funding status and priorities prior to submitting proposals. For further information contact: Bill Murray, NOAA, 301-427-2089 ext. 133, Internet: murray@ogp.noaa.gov; Chris Miller, NOAA, 301-427-2089 ext. 143, Internet: miller@ogp.noaa.gov; Martha Maiden, NASA, 202/358-1078, Internet: maiden@hq.nasa.gov; Rick Petty, DOE; 301-903-5548, Internet: rick.petty@oer.doe.gov; or David Verardo, NSF, 703-292-8527, Internet: dverardo@nsf.gov.

(F) Climate Dynamics and Experimental Prediction

This program will not accept applications to initiate centers at new institutions, but will accept renewal applications for ongoing efforts or as part of ongoing negotiations. Qualified applications for this program may be submitted throughout the year. For further information contact: Phil Arkin, NOAA/Global Programs, Silver Spring, MD; telephone: 301-427-2089 ext. 116, Internet: arkin@ogp.noaa.gov.

(G) Climate Variability and Predictability (CLIVAR)

The U.S. CLIVAR program seeks to observe, model and understand natural variability on seasonal to decadal time scales and to assess the predictability of such climate variability. The ultimate goal of NOAA's participation in CLIVAR is to develop skillful predictions of climate variability on seasonal-to-interdecadal time scales and regional space scales for optimal use in resource planning. The program is designed to understand global climate variability; to determine the spatial and temporal extent to which this variability is predictable, to develop the observational, theoretical, and computational means to predict variability; and to make enhanced predictions, where feasible. NOAA's research focuses on large-scale recurrent patterns of variability that influence climate on the regional scale, particularly over the US. Among these patterns are the El Niño-Southern Oscillation (ENSO), Pacific Decadal Oscillation (PDO), Tropical Atlantic Variability (TAV), the North Atlantic Oscillation (NAO), and the American monsoon systems. NOAA has structured its CLIVAR program to focus on variability and predictability within three regions: the Atlantic, the Pacific, and Pan America. For an information sheet containing further details and current priorities for research in each of these regions, visit the NOAA CLIVAR website at http://www.ogp.noaa.gov/mpe/clivar/index.htm. For further information on CLIVAR-Atlantic, please contact James Todd, NOAA/Global Programs, 301/427-2089 ext. 139, Internet: james.todd@noaa.gov. For the CLIVAR-Pacific and the Pan American Climate Studies (PACS) efforts, please contact, Michael Patterson, NOAA/Global Programs, 301-427-2089 ext. 102, Internet: michael.patterson@noaa.gov.

(H) Economics and Human Dimensions of Climate Fluctuations

Please see Climate and Societal Interactions (CSI) above.

(I) GEWEX Americas Prediction Project (GAPP)

GAPP is jointly supported by NOAA and NASA. Details about GAPP are available through the GAPP Science Plan and Implementation Strategy available on the OGP Home Page or from the NOAA GAPP Program Manager. Initiatives are solicited which have a geographical focus on the western USA or the Mississippi River Basin, and address the following GAPP priorities:

(1) Land memory processes and their spatial and temporal variability: GAPP seeks to better understand the contributions of orography (including features such as the low level jet), soil moisture, vegetation and snow and other cold land processes to the predictability of the water cycle.

(2) Model transferability studies, enriched data set production and assimilation of remotely-sensed data to support the US contribution to the GEWEX Coordinated Enhanced Observing Period.

(3) Scientific Investigations to examine the application of climate forecasts and GAPP products in water resources management.

It is possible that a joint call with CLIVAR-PACS will be issued to deal with GAPP interests in monsoonal systems. Questions regarding this call should be addressed to Rick Lawford _(lawford@ogp.noaa.gov) or 301-427-2089 Ex. 146 or to Michael Jasinski (mjasinsk@mail.hq.nasa.gov) or 202-358-1847.

(J) Global Carbon Cycle (GCC)

GCC focuses on global observations, process-oriented field studies and modeling to improve our ability to predict the fate of anthropogenic carbon dioxide (CO2) and future atmospheric CO2 concentrations. A separate program announcement for GCC will be issued later this year. Investigators interested in the GCC program area are encouraged to respond to this later announcement. For further information, please contact: Lisa Dilling, NOAA/Office of Global Programs, 301-427-2089 ext. 106, Internet: dilling@ogp.noaa.gov or see the web at: http://www.ogp.noaa.gov/mpe/gcc/index/html.

(K) Paleoclimatology

Please see Climate Change Data and Detection above.

5. Eligibility

Eligible applicants are institutions of higher education, other nonprofits, commercial organizations, international organizations, state, local and Indian tribal governments. Applications from non-Federal and Federal applicants will be competed against each other. Proposals selected for funding from non-Federal applicants will be funded through a project grant or cooperative agreement under the terms of this notice. Proposals selected for funding from NOAA scientists shall be effected by an intra-agency fund transfer. Proposals selected for funding from a non-NOAA Federal agency will be funded through an inter-agency transfer.

Please Note: Before non-NOAA Federal applicants may be funded, they must demonstrate that they have legal authority to receive funds from another Federal agency in excess of their appropriation. The only exception to this is “governmental research facilities” for awards issued under the authority of 49 U.S.C. 44720. Because this announcement is not proposing to procure goods or services from applicants, the Economy Act (31 U.S.C. 1535) is not an appropriate legal basis.

6. Letters of Intent (LOI)

The purpose of the LOI process is to provide information to potential applicants on the relevance of their proposed project to the Climate and Global Program and the likelihood of it being funded in advance of preparing a full proposal. Full proposals will be encouraged only for LOIs deemed relevant, therefore, it is in the best interest of the applicants and their institutions to submit an LOI; however, it is not a requirement. The LOI should provide a concise description of the proposed work and its relevance to the targeted program element. the LOI must include the components listed below. If these components are not included, the LOI risks a delayed response and may not be considered by the program reviewers. (A) Investigators must identify the program element that is being targeted in the LOI. (B) Investigators must specify a tentative project title in the LOI. (C) LOIs must include the name and institution of all principal investigator(s), and specify which individual is the Lead principal investigator. (D) LOIs should be no more than two pages in length and must include a statement of the problem, brief summary of work to be completed, methodology to be used, and approximate cost of the project. Facsimile and electronic mail are acceptable for LOIs (but not for full proposals).

A panel of program managers will review each LOI to determine whether the LOI is responsive to the program goals as advertised in this notice. An LOI response (e-mail or letter) will be sent back to the investigator encouraging or discouraging a full proposal. The final decision to submit a full proposal will be made by the investigator.

7. Evaluation Criteria

Consideration for financial assistance will be given to those proposals that address one of the Program Elements listed and meet the following evaluation criteria:

(A) Scientific Merit: Intrinsic scientific value of the subject and the study proposed, including methodology and readiness.

(B) Relevance: Importance and relevance to the goals of the selected Program Element(s). (See Program Objectives above).

8. Selection Procedures

Proposals, including those submitted by NOAA employees, will be evaluated in accordance with the above evaluation criteria by (A) independent peer mail review, and/or (B) independent peer panel review, and a rating will be calculated based on these evaluations; both NOAA and non-NOAA experts in the field may be used in this process. The Program Manager will not be a voting member of an independent peer panel. The recommendations and evaluations of the panel members will be considered by the Program Manager in final selections. Proposals are usually awarded in the numerical order they are ranked based on the independent peer mail review or the independent peer panel review. However, the Program Manager will ascertain which proposals do not substantially duplicate other projects that are currently funded by NOAA or are approved for funding by other federal agencies, and fall within remaining funds available. Unsatisfactory performance by a recipient under prior Federal awards may result in an application not being considered for funding. As a result of this review, the Program Manager may decide to select an award out of order. The Program Manager will also determine the total duration of funding and the amount of funding for each selected proposal.

Pursuant to Executive Orders 12876, 12900, and 13021, the Department of Commerce, National Oceanic and Atmospheric Administration (DOC/NOAA) is strongly committed to broadening the participation of Historically Black Colleges and Universities (HBCU), Hispanic Serving Institutions (HIS), and Tribal Colleges and Universities (TCU) in its educational and research programs. The DOC/NOAA vision, mission, and goals are to achieve full participation by Minority Serving Institutions (MSI) in order to advance the development of human potential, to strengthen the nation's capacity to provide high-quality education, and to increase opportunities for MSIs to participate in and benefit from Federal Financial Assistance programs. DOC/NOAA encourages all applicants to include meaningful participation of MISs. Institutions eligible to be considered MSIs are listed at the following Internet website: http://www.ed.gov/offices/OCR/99minin.html.

9. Proposal Submission

The following forms are required in each application, with original signatures on each federal form. Failure to comply will result in proposal application being returned.

(A) Full Proposals

(1) Proposals submitted to the NOAA Climate and Global Change Program must include the original and two unbound copies of the proposal. (2) Investigators are required to submit 3 copies of the proposal, however, the normal review process requires 20 copies. For an optimal review, investigators are encouraged to submit sufficient proposal copies, especially color or unusually sized (not 8.5″ × 11″), or otherwise unusual materials submitted as part of the proposal. Only three original copies of the Federally-required forms are needed. (3) Proposals must be limited to 30 pages (numbered), including budget, investigators vitae, and all appendices, and should be limited to funding requests for one to three year duration. Appended information may not be used to circumvent the page length limit. Federally-mandated forms are not included within the page count. (4) Proposals should be sent to the NOAA Office of Global Programs at the above address. (5) Facsimile transmissions and electronic mail submission of full proposals will not be accepted.

(B) Required Elements

All proposals must include the following elements: (1) Signed title page: The title page should be signed by the Principal Investigator (PI) and the institutional representative and should clearly indicate which program element is being addressed. If more than one investigator is listed on the title page, please identify the lead investigator. The PI and institutional representative should be identified by full name, title, organization, telephone number and address. The total amount of Federal funds being requested should be listed for each budget period. (2) Abstract: An abstract must be included and should contain an introduction of the problem, rationale and a brief summary of work to be completed. The abstract should appear on a separate page, headed with the proposal title, institution(s), investigator(s), total proposed cost and budget period. (3) Results from prior research: The results of each prior research project (during the last 3 years) relevant to the proposed effort should be summarized in brief paragraphs. This section should not exceed two pages. (4) Statement of work: The proposed project must be completely described, including identification of the problem, scientific objectives, proposed methodology, relevance to the goal of the Climate and Global Change Program priorities listed above. Benefits of the proposed project to the general public and the scientific community should be discussed. The statement of work, including references but excluding figures and other visual materials, must not exceed 15 pages of text. Investigators wishing to submit group proposals that exceed the 15-page limit should discuss this possibility with the appropriate Program Manager prior to submission. Proposals from 3 or more investigator may include a statement of work containing up to 15 pages of overall project description plus up to 5 additional pages for individual project descriptions. (5) Budget Justification: A brief description of the expenses listed on the budget and how they address the proposed work. Item justifications must include salaries, equipment, publications, supplies, tuition, travel, etc. (6) Budget: The proposal must include total and annual itemized budgets corresponding with the descriptions provided in the statement of work. Non-Federal Applicants must submit a Standard Form 424 (4-92) “Application for Federal Assistance,” including a detailed budget using the Standard Form 424a (4-92), “Budget Information—Non-Construction Programs.” Travel must be itemized to include destination, airfare, per diem, lodging and ground travel. The from is included in the standard NOAA application kit. (7) Vitae: Abbreviated curriculum vitae are sought with each proposal. Reference lists should be limited to all publications in the last three years with up to five other relevant papers. (8) Current and pending support: For each investigator, submit a list that includes project title, supporting agency with grant number, investigator months per year, dollar value and duration. Requested values should be listed for pending support.

(C) Other Requirements

Applicants may obtain a standard NOAA application kit from Internet: http://www.ogp.noaa.gov/.

10. Primary Applicant Certification

All primary applicants must submit a completed Form CD-511, “Certification Regarding Debarment, Suspension and Other Responsibility Matters; Drug-Free Workplace Requirements and Lobbying”. Applicants are also hereby notified of the following:

(A) Nonprocurement Debarment and Suspension

Prospective participants (as defined at 15 CFR Part 26, section 105) are subject to 15 CFR Part 26, “Nonprocurement Debarment and Suspension,” and the related section of the certification form prescribed above applies;

(B) Drug-Free Workplace

Grantees (as defined at 15 CFR part 26, section 605) are subject to 15 CFR Part 26, Subpart F, “Government-wide Requirements for Drug-Free Workplace (Grants)” and the related section of the certification form prescribed above applies;

(C) Anti-Lobbying

Persons (as defined at 15 CFR Part 28, section 105) are subject to the lobbying provisions of 31 U.S.C. 1352, “Limitation on use of appropriated funds to influence certain Federal contracting and financial transactions”, and the lobbying section of the certification form prescribed above applies to applications/bids for grants, cooperative agreements, and contracts for more than $100,000; and

(D) Anti-Lobbying Disclosures

Any applicant that has paid or will pay for lobbying using any funds must submit an SF-LLL, “Disclosure of Lobbying Activities,” as required under 15 CFR part 28, appendix B.

11. Lower Tier Certifications

(A) Recipients must require applicants/bidders for subgrants, contracts, subcontracts, or lower tier covered transactions at any tier under the award to submit, if applicable, a completed Form CD-512, “Certifications Regarding Debarment, Suspension, Ineligibility and Voluntary Exclusion-Lower Tier Covered Transactions and Lobbying” and disclosure form SF-LLL, “Disclosure of Lobbying Activities.” Form CD-512 is intended for the use of recipients and should not be transmitted to DOC. SF-LLL submitted by any tier recipient or subrecipient should be submitted to DOC in accordance with the instructions contained in the award document.

(B) Recipients and subrecipients are subject to all applicable Federal laws and Federal and Department of Commerce policies, regulations, and procedures applicable to Federal financial assistance awards.

(C) Preaward Activities—If applicants incur any costs prior to an award being made, they do so solely at their own risk of not being reimbursed by the Government. Notwithstanding any verbal assurance that may have been received, there is no obligation to the applicant on the part of Department of Commerce to cover pre-award costs.

(D) Financial assistance recipients funded by this program are subject to the applicable administrative requirements found in 15 CFR Part 14, “Uniform Administrative Requirements for Grants and Agreements with Institutions of Higher Education, Hospitals, and other Non-Profit and Commercial Organizations, or 15 CFR Part 24, “Uniform Administrative Requirements for Grants and Agreements to State and Local Governments” as applicable. Applications under this program are not subject to Executive Order 12372, “Intergovernmental Review of Federal Programs.”

(E) All non-profit and for-profit applicants are subject to a name check review process. Name checks are intended to reveal if any key individuals associated with the applicant have been convicted of, or are presently facing criminal charges such as fraud, theft, perjury, or other matters which significantly reflect on the applicant's management, honesty, or financial integrity.

(F) A false statement on an application is grounds for denial or termination of funds and grounds for possible punishment by a fine or imprisonment as provided in 18 U.S.C. 1001.

(G) No award of Federal funds shall be made to an applicant who has an outstanding delinquent Federal debt until either: (i) The delinquent account is paid in full, (ii) A negotiated repayment schedule is established and at least one payment is received, or (iii) Other arrangements satisfactory to the Department of Commerce are made.

(H) Buy American-Made Equipment or Products—Applicants are encouraged that any equipment or products authorized to be purchased with funding provided under this program be American-made to the maximum extent feasible.

(I) The total dollar amount of the indirect costs proposed in an application under this program must not exceed the indirect cost rate negotiated and approved by a cognizant Federal agency prior to the proposed effective date of the award or 100 percent of the total proposed direct cost dollar amount in the application, whichever is less.

(J) If an application is selected for funding, the Department of Commerce has no obligation to provide any additional future funding in connection with the award. Renewal of an award to increase funding or extend the period of performance is at the total discretion of the Department of Commerce.

(K) In accordance with Federal statutes and regulations, no person on grounds of race, color, age, sex, national origin or disability shall be excluded from participation in, denied benefits of, or be subjected to discrimination under any program or activity receiving financial assistance from the NOAA Climate and Global Change Program. The NOAA Climate and Global Change Program does not have direct TDD (Telephonic Device for the Deaf) capabilities, but can be reached through the State of Maryland supplied TDD contact number, 800-735-2258, between the hours of 8 a.m.-4:30 p.m.

12. Classification

This notice contains collection-of-information requirements subject to the Paperwork Reduction Act. The use of Standard Forms 424, 424A, and SF-LLL have been approved by OMB under the respective control numbers 0348-0043, 0348-0044, and 0348-0046. Notwithstanding any other provision of law, no person is required to respond to nor shall a person be subject to a penalty for failure to comply with a collection of information subject to the requirements of the Paperwork Reduction Act, unless that collection of information displays a currently valid OMB control number. This notice has been determined to be not significant for purposes of Executive Order 12866.

Dated: May 10, 2001.
Louisa Koch,
Deputy Assistant Administrator.

[FR Doc. 01-12347 Filed 5-15-01; 8:45 am]

BILLING CODE 3510-KP-M